DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing an update to the identifying information of one individual currently included on OFAC's Specially Designated Nationals and Blocked Persons List (SDN List).

DATES: See Supplementary Information section for effective date.

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Action

On October 21, 2021, OFAC updated the SDN List for the following individual, whose property and interests in property continue to be blocked under the Foreign Narcotics Kingpin Designation Act.

Individual

1. GONZALEZ HIGUERA, Jaime Humberto (a.k.a. “EL TUNCO”; a.k.a. “TUNCO”), Mexico; DOB 25 Mar 1986; POB Sinaloa, Mexico; nationality Mexico; Gender Male; C.U.R.P. GOHJ860325HSLNGM02 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, Sergio VALENZUELA VALENZUELA.

The listing for the individual now appears as follows:

1. GONZALEZ HIGUERA, Jaime (a.k.a. “EL TUNCO”; a.k.a. “TUNCO”), Mexico; DOB 07 Mar 1972; POB Sinaloa, Mexico; nationality Mexico; Gender Male; C.U.R.P. GOHJ720307HSLNGM00 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, Sergio VALENZUELA VALENZUELA.

Dated: October 21, 2021.
Gregory Gatjanis,
Associate Director, Office of Global Targeting, Office of Foreign Assets Control, U.S. Department of the Treasury.

[FR Doc. 2021-23393 Filed 10-26-21; 8:45 am]

BILLING CODE 4810-AL-P